SMALL BUSINESS ADMINISTRATION

[Declaration of Disaster #3316]

State of Oklahoma

As a result of the President's major disaster declaration on January 5, 2001, I find that the following Counties in the State of Oklahoma constitute a disaster area due to damages caused by a severe winter ice storm beginning on December 25, 2000 and continuing: Adair, Atoka, Bryan, Carter, Cherokee, Choctaw, Cleveland, Coal, Cotton, Creek, Garvin, Grady, Haskell, Hughes, Jefferson, Johnston, Latimer, LeFlore, Lincoln, Love, Marshall, McClain, McCurtain, McIntosh, Murray, Muskogee, Okfuskee, Oklahoma, Okmulgee, Pittsburg, Pontotoc, Pottawatomie, Pushmataha, Seminole, Sequoyah, Stephens, Tulsa, Wagoner and Washington Counties. Applications for loans for physical damage as a result of this disaster may be filed until the close of business on March 6, 2001, and for loans for economic injury until the close of business on October 5, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Caddo, Canadian, Comanche, Delaware, Kingfisher, Logan, Mayes, Nowata, Osage, Pawnee, Payne, Rogers, and Tillman in Oklahoma; Benton, Crawford, Little River, Polk, Scott, Sebastian, Sevier and Washington in Arkansas; Chautauqua and Montgomery in Kansas; Bowie, Clay, Cooke, Fannin, Grayson, Lamar, Montague, Red River and Wichita in Texas.

The interest rates are:

| Percent
For Physical Damage:
Homeowners With Credit Available Elsewhere | 7.000
Homeowners Without Credit Available Elsewhere | 3.500
Businesses With Credit Available Elsewhere | 8.000
Businesses and Non-Profit Organizations Without Credit Available Elsewhere | 4.000
Others (Including Non-Profit Organizations) With Credit Available Elsewhere | 7.000
For Economic Injury:
Businesses and Small Agricultural Cooperatives Without Credit Available Elsewhere | 4.000

The number assigned to this disaster for physical damage is 331611. For economic injury the numbers are 9K3300 for Oklahoma, 9K3400 for Arkansas, 9K3500 for Kansas, and 9K3600 for Texas.

(Catalog of Federal Domestic Assistance Program Nos. 59002 and 59008.)

Dated: January 9, 2001.
Herbert L. Mitchell,
Associate Administrator for Disaster Assistance.

[FR Doc. 01-1324 Filed 1-16-01; 8:45 am]

BILLING CODE 8025-01-P